DEPARTMENT OF ENERGY

Federal Energy Regulatory Commission

[Project No. 13126-001]

MARMC Enterprises, LLC; Notice of Application for Amendment of Preliminary Permit Accepted for Filing and Soliciting Comments, Motions To Intervene, and Protests

January 7, 2009.

On October 20, 2008, MARMC Enterprises, LLC filed an amendment to their preliminary permit application, pursuant to section 4(f) of the Federal Power Act, proposing to study the feasibility of Algiers Cutoff Project. The proposed project would be located on the Mississippi River in Orleans Parish, Louisiana. The project uses no dam or impoundment.

The proposed description of the amendment: After performing cursory hydrology and bathymetric studies, the permittee determined that the proposed area might not be the optimal site for deployment of the project. The permittee is requesting to extend the upstream boundary to mile marker to 92.5.

FERC Contact: Patricia W. Gillis, 202-502-8735.

Deadline for filing comments or motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13126-001) in the docket number field to access the document. For assistance, call toll-free 1-866-208-3372.

Kimberly D. Bose,
Secretary.

[FR Doc. E9-543 Filed 1-13-09; 8:45 am]

BILLING CODE 6717-01-P